DEPARTMENT OF HEALTH AND HUMAN SERVICES

Centers for Disease Control and Prevention

[60Day-17-1036; Docket No. CDC-2017-0051]

Proposed Data Collection Submitted for Public Comment and Recommendations

AGENCY: Centers for Disease Control and Prevention, Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on “Community Assessment for Public Health Emergency Response (CASPER).” CASPER is an effective public health tool designed to quickly provide low-cost, household-based information about a community's needs and health status in a simple, easy-to-understand format for decision makers.

DATES: Written comments must be received on or before July 31, 2017.

ADDRESSES: You may submit comments, identified by Docket No. CDC-2017-0051 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Community Assessment for Public Health Emergency Response (CASPER) (OMB Control Number 0920-1036, Expiration 12/31/2017)—Revision—National Center for Environmental Health (NCEH), Centers for Disease Control and Prevention (CDC).

Background and Brief Description

The National Center for Environmental Health (NCEH) is requesting a revision of a currently approved generic clearance information collection request (GenICR) to allow the Center to conduct Community Assessments for Public Health Emergency Response (CASPERs), through methods developed by NCEH. CASPER is an effective public health tool designed to quickly provide low-cost, household-based information about a community's needs and health status in a simple, easy-to-understand format for decision makers. A CASPER can be conducted any time the public health needs of a community are not well known, including as part of disaster/emergency response to help inform decision making and distribution of resources, or in non-emergency settings to assess the public health needs of a community. In all situations, CASPERs provide timely public health information that is essential when engaging in sound public health action.

For a CASPER to be initiated by CDC, a state, local, tribal, or territorial jurisdiction must first invite CDC to participate. Communities are identified by local, state, or regional emergency managers and health department officers. The process for conducting a CASPER includes planning and preparation, field work, analysis, and sharing results with stakeholders. Planning can take 24 hours to several months depending on the type of CASPER being conducted. Field work takes approximately five days. Due to emergency situations under which CASPERs are often requested by states (e.g., hurricane response, oil spill, flood, drought), it is important that CDC has the ability to gain urgent approval for data collection.

The CASPER uses a validated statistical methodology that includes a two-stage probability sampling technique to collect information from a representative sample of 210 households in the community. Within the community, 30 clusters (typically census blocks) are selected based on probability proportional to size (i.e., the number of households) and, within each cluster, seven households are randomly selected for interview.

Participation in a CASPER is voluntary. Consenting participants are not provided incentives for participating in the survey. Face-to-face interviews, usually taking 30 minutes or less, with one adult (≥18 years of age) from a selected household are recorded on paper or in electronic form. In general, yes/no and multiple choice questions are used to collect household level information including, but not limited to, the following categories: Housing unit type and extent of damage to the dwelling, household needs, physical and behavioral health status, perception and response to public health communications, household emergency preparedness, and greatest reported need. While a majority of CASPERs collect only household-level information, there may be instances where the questionnaires are modified to collect a small amount of individual level data.

Participants give verbal consent. Additionally, no data are collected that could link specific questionnaires to house addresses. Separate from the questionnaire, a tracking form is used to record the number of households visited, record households that should be revisited because a respondent was unavailable for interview, and calculate response rates upon completion of the CASPER. Complete addresses, including house number, street name, city, state, and zip code, are never recorded on any form. This information is not retained by CDC or entered into any database. There is no way to link data from the tracking form to specific household questionnaires.

Though each CASPER will be different, in general, personally identifying information is not collected. In a minimal number of CASPERs, interview teams may come across households with urgent needs that present an immediate threat to life or health, where calling emergency services immediately is not appropriate. In these instances, the team may refer the household to appropriate services using a referral form that is not attached to the questionnaire. In the few instances where these forms are utilized, personally identifying information is collected. However, the forms go directly from the field team to the local CASPER coordinator for handling and rapid follow-up. When referral forms are used, the information is never retained by CDC or entered into any database. There is no way to link specific questionnaires to any information on the referral form.

Since receiving initial approval for this GenICR, CDC has conducted two CASPERs. These CASPERs were in support of the 2016 California Drought in Mariposa County and the West Virginia Flooding of 2016. The 2016 California Drought CASPER was a successful collaboration between the California Department of Public Health, the Mariposa County Health Department, and CDC which helped characterize the impacts of drought in Mariposa County as well as actions households have taken. These results were useful in allocating resources for response to the drought and in strengthening the emergency preparedness capacity of Mariposa County. The 2016 West Virginia Flood CASPER assessed household disaster preparedness, access to health care, health impacts due to flood damage, health information sources, and stage of disaster recovery. Approval of this revision of the GenICR will allow CDC to continue to provide low-cost, household-based information about a community's needs and health status in a simple, easy-to-understand format for decision makers.

The estimated annualized burden is 631 hours. The estimated burden is based on conducting 6 emergency CASPERs per year, interviewing 210 households per CASPER, conducting 30-minute interviews per household, and completing 24 referral forms per year. There is no cost to respondents other than their time.

Estimated Annualized Burden Hours

Type of respondents | Form name | Number of respondents | Number of responses per respondent | Average burden per response (in hours) | Total burden (in hours)
Households in the selected geographic area to be assessed | CASPER Questionnaire Referral Form | 1,260 24 | 1 1 | 30/60 2/60 | 630 1
Total |  |  |  |  | 631

Leroy A. Richardson,
Chief, Information Collection Review Office, Office of Scientific Integrity, Office of the Associate Director for Science, Office of the Director, Centers for Disease Control and Prevention.

[FR Doc. 2017-11112 Filed 5-30-17; 8:45 am]

BILLING CODE 4163-18-P